DEPARTMENT OF ENERGY

Office of Energy Efficiency and Renewable Energy

Notice of Public Scoping, Request for Comment, and Announcement of Public Scoping Meetings for the U.S. Department of Energy Environmental Assessment for New England Aqua Ventus I (DOE/EA-2049)

AGENCY: Office of Energy Efficiency and Renewable Energy, U.S. Department of Energy.

ACTION: Notice of public scoping, request for comment, and announcement of public scoping meetings.

SUMMARY: The U.S. Department of Energy's (DOE) Office of Energy Efficiency and Renewable Energy (EERE) is proposing to authorize the expenditure of federal funding for the development of New England Aqua Ventus I, an offshore wind advanced technology demonstration project consisting of two turbines on floating foundations in the Gulf of Maine, approximately 2.5 miles south of Monhegan Island, Lincoln County, Maine and 12 miles off the mainland. Development actions include design, construction, and commissioning of the proposed project; environmental monitoring; and up to five years of post-construction structural and performance monitoring data collection by the University of Maine. This project is also known as the Maine Aqua Ventus I project. The proposed project would consist of up to two wind turbine generators and the necessary electrical transmission facilities (i.e. underwater and underground cable) to connect to the Central Maine Power distribution line located in Port Clyde within the town of St. George, Maine. Additional project activities and/or potential impacts from the proposed project would occur in or near Hampden, Searsport, Monhegan Island, Port Clyde and Pemaquid, Maine. The operation, maintenance and eventual decommissioning of the proposed project are considered connected actions under the Council on Environmental Quality's Regulations for Implementing the Procedural Provisions of the National Environmental Policy Act and will be analyzed in this Environmental Assessment (EA) as part of the proposed action.

Pursuant to the requirements of the National Environmental Policy Act (NEPA), DOE is preparing an EA to identify and analyze potential impacts to the human environment that may occur if DOE authorizes the expenditure of federal funding in support of New England Aqua Ventus I. DOE is requesting public input on the scope of the EA for New England Aqua Ventus I.

The notice of public scoping for the EA, a description of the proposed project, and additional meeting information, including inclement weather delays or postponements, are posted at: www.energy.gov/node/2053718.

DATES:

Meetings: DOE will hold the following public meetings: February 28, 2017 from 2:00 p.m. to 4:00 p.m. and 7:00 p.m. to 9:00 p.m. in Tenants Harbor, Maine; and March 1, 2017 from 5:30 to 7:30 p.m. in Monhegan, Maine.

Comments: Comments regarding scoping must be received on or before March 22, 2017.

ADDRESSES:

Meetings: The public meetings will be held at (1) The Fire Department Meeting Room at the Town of St. George Office, 3 School Street, Tenants Harbor, Maine 04860 on February 28.

(2) Monhegan Island School, 1 Monhegan Avenue, Maine 04852 on March 1.

Written Comments: Written comments should be sent to Diana Heyder at U.S. Department of Energy, 15013 Denver West Parkway, Golden, CO 80401, or by email to AquaVentus1EA@ee.doe.gov.

Full Notice: The notice is available for viewing at: www.energy.gov/node/2053718.

FOR FURTHER INFORMATION CONTACT: Requests for additional information should be directed to Diana Heyder at AquaVentus1EA@ee.doe.gov.

Issued in Golden, CO on February 7, 2017.
Robin L. Sweeney,
Director, Environment, Safety and Health Office, Office of Energy Efficiency and Renewable Energy.

[FR Doc. 2017-03040 Filed 2-14-17; 8:45 am]

BILLING CODE 6450-01-P